DEPARTMENT OF COMMERCE

National Oceanic and Atmospheric Administration

[RTID 0648-XA500]

Marine Mammals; File No. 23807

AGENCY: National Marine Fisheries Service (NMFS), National Oceanic and Atmospheric Administration (NOAA), Commerce.

ACTION: Notice; receipt of application for permit amendment.

SUMMARY: Notice is hereby given that Plimsoll Productions Limited, 51-55 Whiteladies Road, Bristol, BS8 2LY, United Kingdom (Responsible Party: Anuschka Schofield), has applied for an amendment to Permit No. 23807.

DATES: Written, telefaxed, or email comments must be received on or before October 28, 2020

ADDRESSES: These documents are available upon written request via email to NMFS.Pr1Comments@noaa.gov.

Written comments on this application should be submitted via email to NMFS.Pr1Comments@noaa.gov. Please include File No. 23807 in the subject line of the email comment.

Those individuals requesting a public hearing should submit a written request via email to NMFS.Pr1Comments@noaa.gov. The request should set forth the specific reasons why a hearing on this application would be appropriate.

FOR FURTHER INFORMATION CONTACT: Erin Markin or Carrie Hubard, (301) 427-8401.

SUPPLEMENTARY INFORMATION: The subject amendment to Permit No. 23807 is requested under the authority of the Marine Mammal Protection Act of 1972, as amended (16 U.S.C. 1361 et seq.), and the regulations governing the taking and importing of marine mammals (50 CFR part 216).

Permit No. 23807, issued on June 11, 2020 (85 FR 35637), authorizes the permit holder to film bottlenose dolphins (Tursiops truncatus) by land, vessel, and unmanned aircraft systems in coastal waters off of Charleston County, South Carolina, for a wildlife documentary series that reveals the unique behaviors and adaptations that set different families of animals apart. The permit holder is requesting the permit be amended to include authorization to increase the number of bottlenose dolphins that can be filmed from 630 to 720, annually. In addition, the permit holder is requesting to expand the filming area to up to 3 miles offshore from Charleston County. The expanded study area and increased takes will allow the permit holder to film dolphins feeding near shrimp boats, another adaptive behavior. The permit expires on December 31, 2024.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: September 23, 2020.
Julia Marie Harrison,
Chief, Permits and Conservation Division, Office of Protected Resources, National Marine Fisheries Service.

[FR Doc. 2020-21334 Filed 9-25-20; 8:45 am]

BILLING CODE 3510-22-P